STATE JUSTICE INSTITUTE

SJI Board of Directors Meeting, Notice

AGENCY: State Justice Institute (SJI).

ACTION: Notice of meeting.

SUMMARY: The SJI Board of Directors will be meeting on Monday, April 3, 2017 at 1:00 p.m. The meeting will be held at the Tennessee Administrative Office of the Courts. The purpose of this meeting is to consider grant applications for the 2nd quarter of FY 2017, and other business. All portions of this meeting are open to the public.

ADDRESSES: Tennessee Administrative Office of the Courts, Conference Room, 6th Floor, 511 Union Street, Nashville, Tennessee 37219.

FOR FURTHER INFORMATION CONTACT: Jonathan Mattiello, Executive Director, State Justice Institute, 11951 Freedom Drive, Suite 1020, Reston, VA 20190, (571) 313-8843, contact@sji.gov.

Jonathan D. Mattiello,
Executive Director.

[FR Doc. 2017-05615 Filed 3-21-17; 8:45 am]

BILLING CODE P